FEDERAL RETIREMENT THRIFT INVESTMENT BOARD

Sunshine Act; Notice of Meeting

Time and Date: 9 a.m. (Eastern Time) February 16, 2010.

Place: 4th Floor Conference Room, 1250 H Street, NW., Washington, DC 20005.

Status: Parts will be open to the public and parts closed to the public.

Matters to be Considered:

Parts Open to the Public

1. Approval of the minutes of the January 19, 2010 Board member meeting.

2. Thrift Savings Plan activity report by the Executive Director.

a. Monthly Participant Activity Report.

b. Monthly Investment Performance Report.

c. Legislative Report.

3. Vendor Financial Update.

4. Report on Participant Behavior in the Financial Crisis.

5. Thrift Savings Plan Enhancement Act Implementation Update.

6. DOL Audit Briefing.

Parts Closed to the Public

7. Proprietary Data.

8. Personnel.

Contact Person for More Information: Thomas J. Trabucco, Director, Office of External Affairs, (202) 942-1640.

Dated: February 9, 2010.
Thomas K. Emswiler,
Secretary, Federal Retirement Thrift Investment Board.

[FR Doc. 2010-3001 Filed 2-11-10; 8:45 am]

BILLING CODE 6760-01-P